DEPARTMENT OF THE INTERIOR

National Park Service

[NPS-WASO-NAGPRA-NPS0035913; PPWOCRADN0-PCU00RP14.R50000]

Notice of Inventory Completion: Warren County Cultural & Heritage Affairs, Shippen Manor Museum, Oxford, NJ

AGENCY: National Park Service, Interior.

ACTION: Notice.

SUMMARY: In accordance with the Native American Graves Protection and Repatriation Act (NAGPRA), the Shippen Manor Museum has completed an inventory of human remains and associated funerary objects and has determined that there is a cultural affiliation between the human remains and associated funerary objects and Indian Tribes or Native Hawaiian organizations in this notice. The human remains and associated funerary objects were removed from Warren County, NJ.

DATES: Repatriation of the human remains and associated funerary objects in this notice may occur on or after June 23, 2023.

ADDRESSES: Gina Rosseland, Warren County Cultural & Heritage Affairs, Shippen Manor Museum, 8 Belvidere Avenue, Oxford, NJ 07863, telephone (908) 453-4381.

SUPPLEMENTARY INFORMATION: This notice is published as part of the National Park Service's administrative responsibilities under NAGPRA. The determinations in this notice are the sole responsibility of the Shippen Manor Museum. The National Park Service is not responsible for the determinations in this notice. Additional information on the determinations in this notice, including the results of consultation, can be found in the inventory or related records held by the Shippen Manor Museum.

Description

In 1966, human remains representing, at minimum, one individual were found along the Delaware River in Pahaquarry, Warren County, NJ. Initially, these ancestral remains, together with associated funerary objects, were in the possession of White Township Historical Museum (Bridgeville, Warren County, NJ). Subsequently, they were brought to the Shippen Manor Museum by former curator Andrew Drysdale. The human remains belong to a juvenile male. No known individual was identified. The three associated funerary objects are one lot consisting of hammer stones, one lot consisting of rocks, and one lot consisting of arrowheads and/or flint.

Human remains representing, at minimum, one individual were found at the King Cole site (Dayton's Burial Site #1) in Belvidere, Warren County, NJ, during an archeological excavation and brought to the Shippen Manor Museum by F. Dayton Staats at an unknown date. The human remains consist of bone and teeth belonging to an adolescent male, No known individual was identified. No associated funerary objects are present.

Human remains representing, at minimum, one individual were removed from the King Cole site in Belvidere, Warren County, NJ, and placed at the Shippen Manor Museum by F. Dayton Staats at an unknown date. The human remains consist of skull belonging to a female of unidentified age. No known individual was identified. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, and expert opinion.

Determinations

Pursuant to NAGPRA and its implementing regulations, and after consultation with the appropriate Indian Tribes and Native Hawaiian organizations, the Shippen Manor Museum has determined that:

• The human remains described in this notice represent the physical remains of three individuals of Native American ancestry.

• The three lots of funerary objects described in this notice are reasonably believed to have been placed with or near individual human remains at the time of death or later as part of the death rite or ceremony.

• There is a relationship of shared group identity that can be reasonably traced between the human remains and associated funerary objects described in this notice and the Delaware Nation, Oklahoma; Delaware Tribe of Indians; and the Stockbridge Munsee Community, Wisconsin.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 23, 2023. If competing requests for repatriation are received, the Shippen Manor Museum must determine the most appropriate requestor prior to repatriation. Requests for joint repatriation of the human remains and associated funerary objects are considered a single request and not competing requests. The Shippen Manor Museum is responsible for sending a copy of this notice to the Indian Tribes identified in this notice.

Authority: Native American Graves Protection and Repatriation Act, 25 U.S.C. 3003, and the implementing regulations, 43 CFR 10.9, 10.10, and 10.14.

Dated: May 17, 2023.
Melanie O'Brien,
Manager, National NAGPRA Program.

[FR Doc. 2023-11018 Filed 5-23-23; 8:45 am]

BILLING CODE 4312-52-P